DEPARTMENT OF ENERGY

Federal Energy Regulatory Commission

[Project No. 2743-045]

The Four Dam Pool Power Agency; Notice of Availability of Environmental Assessment

October 8, 2004.

In accordance with the National Environmental Policy Act of 1969 and the Federal Energy Regulatory Commission's (Commission) regulations, 18 CFR part 380 (Order No. 486, 52 FR 47897), the Office of Energy Projects' staff has prepared an Environmental Assessment (EA) for an application for a non-capacity related amendment of the Terror Lake Project. The Terror Lake Project, FERC No. 2743, is located on the Terror and Kizhuyak Rivers in Kodiak, Alaska.

The EA contains the staff's analysis of the potential environmental impacts of the proposal and concludes that approval of the proposal would not constitute a major Federal action significantly affecting the quality of the human environment.

A copy of the EA is attached to an October 7, 2004 Order titled “Order Amending License and Approving Revised Exhibits,” which is available for review and reproduction at the Commission's Public Reference Room, located at 888 First Street, NE., Room 2A, Washington, DC 20426. The EA may also be viewed on the Commission's Web site at http://www.ferc.gov using the “elibrary” link. Enter the docket number (prefaced by P-) and excluding the last three digits, in the docket number field to access the document. For assistance, contact FERC Online Support at FERCOnlineSupport@ferc.gov or toll-free at (866) 208-3676, or for TTY, contact (202) 502-8659.

For further information, contact Rebecca Martin at (202) 502-6012.

Magalie R. Salas,
Secretary.

[FR Doc. E4-2683 Filed 10-15-04; 8:45 am]

BILLING CODE 6717-01-P